DEPARTMENT OF THE INTERIOR

Bureau of Land Management

[ID-420-1610-DQ-034D]

Notice of Availability of the Proposed Cottonwood Resource Management Plan and Final Environmental Impact Statement; Idaho

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Proposed Resource Management Plan/Final Environmental Impact Statement (PRMP/FEIS) for the Cottonwood Field Office, Idaho.

DATES: The BLM Planning Regulations (43 CFR 1610.5-2) state that any person who participated in the planning process, and has an interest which is or may be adversely affected, may protest BLM's approval of a Resource Management Plan. You must file a protest within 30 days of the date that the Environmental Protection Agency publishes their Notice of Availability in the Federal Register. Instructions for filing of protests are described in the Dear Reader letter of the Cottonwood PRMP/FEIS and in the SUPPLEMENTARY INFORMATION section of this notice. To ensure compliance with the protest regulations, please consult BLM's Planning Regulations at 43 CFR 1610.5-2.

FOR FURTHER INFORMATION CONTACT: Dean Huibregtse, RMP Team Lead, BLM Cottonwood Field Office, 1 Butte Drive, Cottonwood, ID 83522; (208) 962-3784; or Dean_Huibregtse@blm.gov.

SUPPLEMENTARY INFORMATION: The planning area covers approximately 143,830 acres of public lands within the following Idaho Counties: Latah, Clearwater, Nez Perce, Lewis, Idaho and Adams. The Cottonwood RMP, when completed, will provide management guidance for use and protection of the resources managed by the Cottonwood Field Office. The Draft Cottonwood RMP/EIS was published for public comment on August 25, 2006. During the 90-day public comment period BLM received 30 comment letters, e-mails, and faxes containing 376 individual comments. Comments on the Draft RMP/EIS from the public and internal BLM review comments were incorporated into the proposed plan. Public comments resulted in the addition of clarifying text and minor changes to the Preferred Alternative, but did not significantly change proposed land use decisions. The planning issues addressed in the PRMP/FEIS include: invasive plant species, forest vegetation, special status species, watershed management, transportation and travel management, commercial land uses, fuels reduction treatments, public land management and recreational demands.

Copies of the Cottonwood PRMP/FEIS have been sent to affected Federal, State and Local Government agencies and to interested parties. Copies of the PRMP/FEIS are available for public inspection at the BLM Cottonwood Field Office at the address shown above. Interested persons may review the PRMP/FEIS on the Internet at http://www.blm.gov/rmp/id/cottonwood/. You may also obtain a copy on CD-ROM, or paper copy at the BLM Cottonwood Office at the address listed above, or by contacting Dean Huibregtse at (208) 962-3784.

As noted above, instructions for filing a protest with the Director of the BLM regarding the PRMP/FEIS may be found at 43 CFR 1610.5-2. A protest may only raise those issues which were submitted for the record during the planning process. E-mail and faxed protests will not be accepted as valid protests unless the protesting party also provides the original letter by either regular or overnight mail postmarked by the close of the protest period. Under these conditions, BLM will consider the e-mail or faxed protest as an advance copy and it will receive full consideration. If you wish to provide the BLM with such advance notification, please direct faxed protests to the attention of the BLM protest coordinator at 202-452-5112, and e-mails to Brenda_Hudgens-Williams@blm.gov.

All protests including the follow-up letter (if e-mailing or faxing) must be in writing and mailed to one of the following addresses:

Regular mail: | Overnight mail:
Director (210), Attention: Brenda Hudgens-Williams, P.O. Box 66538, Washington, DC 20035 | Director (210), Attention: Brenda Hudgens-Williams, 1620 L Street, NW., Suite 107, Washington, DC 20036.

Before including your address, phone number, e-mail address, or other personal identifying information in your protest, you should be aware that your entire protest—including your personal identifying information—may be made publicly available at any time. While you can ask us in your protest to withhold your personal identifying information from public review, we cannot guarantee that we will be able to do so.

Thomas H. Dyer,
Idaho State Director.

[FR Doc. E8-18193 Filed 8-7-08; 8:45 am]

BILLING CODE 4310-GG-P